DEPARTMENT OF DEFENSE

Department of the Air Force

Active Duty Service Determinations for Civilians or Contractual Groups

On November 4, 2004, the Secretary of the Air Force, acting as Executive Agent of the Secretary of Defense, determined that the service of the group known as “U.S. Civil Servants on Temporary Duty at Long Binh, Republic of Vietnam From about April 4, 1972, to about April 27, 1972, to Design a Commercial Carrier Commodity Tariff and Shipment Control System” shall not be considered “active duty” for purposes of all laws administered by the Department of Veterans Affairs (VA).

FOR FURTHER INFORMATION CONTACT: Mr. James D. Johnston at the Secretary of the Air Force Personnel Council (SAFPC), 1535 Command Drive, EE Wing, 3d Fl., Andrews AFB, MD 20762-7002.

Albert Bodnar,
Air Force Federal Register Liaison Officer.

[FR Doc. 04-26182 Filed 11-24-04; 8:45 am]

BILLING CODE 5001-05-P